DEPARTMENT OF AGRICULTURE

Natural Resources Conservation Service

North Forest Acres Levee/Road Project City of Seward, AK

AGENCY: Natural Resources Conservation Service, USDA.

ACTION: Finding of No Significant Impact.

SUMMARY: Pursuant to Section 102(2)(c) of the National Environmental Policy Act of 1969; the Council on Environmental Quality regulations (40 CFR part 1500); and the regulations of the Natural Resources Conservation Service (7 CFR part 650); the Natural Resources Conservation Service, U.S. Department of Agriculture, gives notice of a Finding of No Significant Impact based on the Environmental Assessment and its Supplemental for the North Forest Acres Road/Levee Project.

DATES: The agency must receive comments on or before September 26, 2008.

ADDRESSES: Natural Resources Conservation Service, 800 West Evergreen, Suite 100, Palmer, Alaska 99645-6539.

FOR FURTHER INFORMATION CONTACT: Phil Naegele, 907-761-7758.

SUPPLEMENTARY INFORMATION: A limited number of copies of the Environmental Assessment and the Supplemental Environmental Assessment are available to fill single copy requests at the above address. Copies of the environmental documents are also available for review at the above address.

Dated: August 15, 2008.
Robert N. Jones,
Alaska State Conservationist, Natural Resources Conservation Service.

Finding of No Significant Impact

The National Environmental Policy Act of 1969 (NEPA) requires Federal agencies to examine the environmental impacts of all Federal actions affecting the quality of the human environment. I have determined, based upon the evaluation of impacts in the Environmental Assessment (EA) prepared in 2003 and the Supplemental Environmental Assessment (SEA) prepared in 2007, that there would be no significant individual or cumulative impacts on the quality of the human environment as a result of implementing the North Forest Acres Levee/Road Project in Seward, Alaska. The EA and SEA are attached hereto and made a part hereof. Based on the documented findings, I have determined that an Environmental Impact Statement is not required.

The city of Seward, Alaska, has experienced flood damage from the Resurrection River and Japanese Creek several times in the past. Damages from the 1995 flood alone totaled 9.8 million dollars. A multi-agency task force recommended five complementary actions to minimize the risk of future damage. Three of these actions (a levee on Japanese Creek, dredging at the mouth of the Resurrection River and widening of the highway bridges) have been completed. The North Forest Levee/Road Project, along with widening of the railroad bridges are the final components of the flood control strategy. Congress has authorized funding for this project in the Natural Resources Conservation Service (NRCS) budget.

An Environmental Assessment was completed for this project in 2003. Based on the findings of the EA a preferred alternative was selected (West 2b and East 3) as the best viable option of the eight considered, including the no-action. This decision was based on an analysis of the environmental impacts for each alternative, public comment, and State and Federal agency comments. A Finding of No Significant Impact (FONSI) was issued based on the preferred alternative and published in the Federal Register (69 FR 2110-2111). The Seward City Council and the residents of the effected areas raised objections to the FONSI and the preferred alternative. The objections were based primarily on the close proximity of the dyke and road to the residential subdivision. A decision was made to rescind the original FONSI and prepare a Supplemental Environmental Analysis to address these concerns.

The SEA assessed the impacts of an additional alignment further to the north of the original alternatives addressed in the EA. This alternative had the support of the City and the nearby residents. This alternative also had greater adverse impacts (than the original routes) on the floodplain, wetlands, and Japanese Creek. Based on comments received from State and Federal agencies it was clear that the northerly route would require a more in-depth study and in all probability would create the need for the preparation of an Environmental Impact Statement (EIS) with no guarantee of support for the City's preferred alternative. For the purpose of furthering the project, the Seward City Council has dropped their objections to the preferred alternative identified in the 2003 EA.

The current preferred alternative is the same as the preferred alternative identified in the 2003 EA with a slight modification. The eastern half of the alignment has been moved slightly further south so as to further reduce any impacts to those wetlands. The western half of the route remains as identified in the 2003 preferred alternative. This alternative minimizes impact to the wetlands, minimizes encroachment on the floodplain, and results in no significant rise of floodwaters in Resurrection River. There are no stream crossings of Japanese Creek and no culverts or flood gates to operate and maintain.

Based on the information presented in the attached North Forest Levee/Road Project EA and SEA, I find that the proposed action is not a major Federal action significantly affecting the quality of the human environment. Therefore, an EIS is not required.

Dated: August 15, 2008.
Robert Jones,
Alaska State Conservationist, Natural Resources Conservation Service.

[FR Doc. E8-19597 Filed 8-22-08; 8:45 am]

BILLING CODE 3410-16-P